DEPARTMENT OF DEFENSE

GENERAL SERVICES AGENCY

NATIONAL AERONAUTICS AND SPACE ADMINISTRATION

48 CFR Part 422

Application of Labor Laws to Government Acquisitions

CFR Correction

In title 48 of the Code of Federal Regulations, part 422, revised as of October 1, 2007, on page 127, §§ 422.1303 and 422.1306 are redesignated as §§ 422.1305 and 422.1308, respectively.

[FR Doc. E8-22597 Filed 9-24-08; 8:45 am]

BILLING CODE 1505-01-D